DEPARTMENT OF ENERGY

Federal Energy Regulatory Commission

[Docket Nos. CP15-117-000]

Transcontinental Gas Pipe Line Company, LLC; Notice of Schedule for Environmental Review of the Dalton Expansion Project

On March 19, 2015, Transcontinental Gas Pipe Line Company, LLC (Transco) filed an application in Docket No. CP15-117-000 requesting a Certificate of Public Convenience and Necessity pursuant to Section 7(c) of the Natural Gas Act to construct and operate certain natural gas pipeline facilities. The proposed project is known as the Dalton Expansion Project (Project), and would provide 448,000 dekatherms per day of incremental firm transportation service to markets in northwest Georgia.

On April 2, 2015, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA March 31, 2016

90-day Federal Authorization Decision Deadline June 29, 2016

If a schedule change becomes necessary, additional notice will be provided so that the relevant agencies are kept informed of the Project's progress.

Project Description

Transco plans to construct and operate about 113 miles of new natural gas pipeline, and associated facilities in Coweta, Carroll, Douglas, Paulding, Bartow, Gordon, and Murray Counties, Georgia and install a new 21,830 horsepower compressor station in Carroll County, Georgia. Additionally, Transco plans to modify existing facilities along its mainline transmission system in Maryland, Virginia, and North Carolina to accommodate bidirectional flow.

Background

On October 21, 2014, FERC staff issued a Notice of Intent To Prepare an Environmental Assessment for the Planned Dalton Expansion Project, Request for Comments on Environmental Issues, and Notice of Public Scoping Meetings (NOI). FERC staff also issued two supplemental NOIs for the Project on November 14, 2014 and February 13, 2015. The original NOI was issued during the pre-filing review of the Project in Docket No. PF14-10-000. All three NOIs were sent to affected landowners; applicable federal, state, and local government agencies; elected officials; environmental and public interest groups; Native American tribes; other interested parties; and local libraries and newspapers. In response to the NOIs, the Commission received comments from federal, state, and local agencies, the Tuscarora Nation, and several landowners. The primary issues raised by the commentors are alternative routes to minimize impacts on known rare species habitat, alternative routes to follow the existing utility corridor, mitigation measures to minimize right-of-way erosion and stormwater runoff into streams, air emissions, safety, and cultural resources.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP15-117), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: March 7, 2016.
Nathaniel J. Davis, Sr.,
Deputy Secretary.

[FR Doc. 2016-05504 Filed 3-10-16; 8:45 am]

BILLING CODE 6717-01-P